DEPARTMENT OF AGRICULTURE

Forest Service

Superior National Forest, LaCroix and Kawishiwi Ranger Districts; Minnesota; Echo Trail Area Forest Management Project

AGENCY: Forest Service, USDA.

ACTION: Notice of intent to prepare a supplement to the Final Environmental Impact Statement.

SUMMARY: The Superior National Forest will prepare a supplement to the Final Environmental Impact Statement (EIS) for the Echo Trail Area Forest Management Project. The supplement will address water quality and watershed health conditions potentially affected by the project. The project is located on the LaCroix Ranger District, Cook, Minnesota, and Kawishiwi Ranger District, Ely, Minnesota.

DATES: A 45-day comment period will be provided for the draft supplement to the Final Environmental Impact Statement. The draft supplement to the Final Environmental Impact Statement is expected during the fall 2008 or winter of 2008-2009 and the final Supplement to the Final Environmental Impact Statement is expected during the spring of 2009.

ADDRESSES: Send written comments to Nancy S. Larson, LaCroix District Ranger, Echo Trail SEIS, 320 Hwy 53 North, Cook, MN 55723. Send electronic comments to comments-eastern-superior-la-_croix@fs.fed.us and fax comments to (218) 666-0022.

Comments received in response to this solicitation, including names and addresses of those who comment, will be part of the public record for this proposed action.

FOR FURTHER INFORMATION CONTACT: Carol Booth, Project Coordinator, 320 Hwy 53 North, Cook, MN 55723; telephone (218) 666-0020.

Individuals who use telecommunication devices for the deaf (TDD) may call the Federal Information Relay Service (FIRS) at 1-800-877-8339 between 8 a.m. and 8 p.m., Eastern Time, Monday through Friday.

SUPPLEMENTARY INFORMATION:

Background

The supplement to the Final Environmental Impact Statement will address issues raised in the Memorandum Opinion and Order for Sierra Club, et al. v. Kimbell (Case No. 07-3160) issued September 15, 2008 by the United States District Court, District of Minnesota. The opinion vacated the Final Environmental Impact Statement (EEIS) and required that it be amended to further address water quality and watershed health. The original FEIS and Record of Decision (ROD) are available on the Superior National Forest Web site (http://www.fs.fed.us/r9/superior/projects) or by calling the Project Coordinator.

The Echo Trail Area Forest Management Project is intended to implement the 2004 Superior National Forest Land and Resource Management Plan by moving the project area toward desired conditions for vegetation and landscape ecosystems, including, for example, forest age class, vegetation composition, tree species and structure diversity. The proposed action and alternatives include a range of forest vegetation and transportation system management options to address significant issues, which include impacts to wildlife habitat, roadless areas and recreation in and outside the Boundary Waters Canoe Area Wilderness.

The purpose and need for action, proposed action, issues, alternatives, effects and nature of the decision are fully described in the original FETS and ROD.

Responsible Officials

Nancy S. Larson, LaCroix District Ranger, 320 Hwy 53 North, Cook, MN 55723, and Mark E. VanEvery, Kawishiwi District Ranger, 1393 Highway 169, Ely, MN 55731.

Scoping Process

Scoping for the Echo Trail Area Forest Management Project was conducted as described in section 1.10 of the Echo Trail Area Forest Management Project FEIS. Scoping need not be repeated for a supplement to the FEIS (see 40 CFR 1502.9(c)(4)). Comments on the draft supplement to the Final Environmental Impact Statement will be solicited as described below in Comment Requested.

Comment Requested

This notice of intent initiates the process which guides development of a Supplement to the Echo Trail Area Forest Management Project Final Environmental Impact Statement. Written comments will be solicited through notification of individuals, organizations and agencies on the mailing list for the original FEIS.

A draft supplement to the Final Environmental Impact Statement will be prepared for comment. The comment period on the draft supplement will be 45 days from the date the Environmental Protection Agency publishes the notice of availability in the Federal Register.

It is important that reviewers provide their comments at such times and in such a way that they are useful to the Agency's preparation of the supplement to the FEIS.

Therefore, comments should be provided prior to the close of the comment period and should clearly articulate the reviewer's concerns and contentions. The submission of timely and specific comments can affect a reviewer's ability to participate in subsequent administrative or judicial review.

Comments received in response to this solicitation, including names and addresses of those who comment, will be part of the public record for this proposed action. Comments submitted anonymously will be accepted and considered; however, anonymous comments will not provide the respondent with standing to participate in subsequent administrative review or judicial review.

Date: October 21, 2008.
Nancy S. Larson,
LaCroix District Ranger.
Dated: October 21, 2008.
Mark E. Vanevery,
Kawishiwi District Ranger.

[FR Doc. E8-25594 Filed 10-27-08; 8:45 am]

BILLING CODE 3410-11-M